DEPARTMENT OF DEFENSE

Department of the Air Force

Notice of Intent To Prepare an Environmental Impact Statement for the KC-46A Main Operating Base 5 (MOB 5) Beddown at Grissom ARB, Indiana, March ARB, California Or Tinker AFB, Oklahoma

AGENCY: Department of the Air Force, Department of Defense.

ACTION: Notice of Intent.

SUMMARY: The Department of the Air Force (DAF) is issuing this Notice of Intent (NOI) to prepare an Environmental Impact Statement (EIS) to assess the potential social, economic, and environmental impacts associated with the KC-46A Main Operating Base 5 (MOB 5) Beddown. The DAF is proposing to beddown KC-46A tanker aircraft, personnel, and associated infrastructure in support of the MOB 5 mission at one of three installations with March Air Reserve Base (ARB), California as the preferred alternative or at Grissom ARB, Indiana or Tinker Air Force Base (AFB), Oklahoma as reasonable alternatives.

DATES: A public scoping period will take place starting from the date of this NOI publication in the Federal Register. This scoping period will be conducted in compliance with NEPA and Section 106 consultation pursuant to Code of Federal Regulations title 36, section 800.2(d). Identification of potential alternatives, information, and analyses relevant to the Proposed Action are requested and will be accepted at any time during the EIS process. To ensure DAF has sufficient time to consider public input in the preparation of the Draft EIS, scoping comments should be submitted to the website or the address listed below by December 21, 2022. The Draft EIS is anticipated in Summer 2023 and the Final EIS is anticipated in Spring 2024. The Record of Decision would be approved and signed no earlier than 30 days after the Final EIS.

The DAF intends to hold open house scoping meetings from 5 p.m. to 8 p.m. in the following communities on the following dates:

1. March ARB—November 29, 2022, at the March Field Air Museum, 22550 Van Buren Blvd., Riverside, CA 92518

2. Tinker AFB—December 1, 2022, at the Sheraton Midwest City Hotel and Reed Conference Center, 5750 Will Rodgers Rd., Midwest City, OK 73110

3. Grissom ARB—December 6, 2022, at the Milestone Event Center, 1458 North Liberator Rd., Peru, IN 46970

ADDRESSES: The project website (www.kc-46a-mob5.com) provides information on the EIS and the scoping process and can be used to submit scoping comments online. Scoping comments may also be submitted to Mr. Austin Naranjo, AFCEC/CZN, Attn: KC-46A MOB 5 EIS, 2261 Hughes Ave., Ste 155, JBSA Lackland, TX 78236-9853 or via email to: afcec.czn.nepacenter@us.af.mil. Courier deliveries should be addressed to: Mr. Austin Naranjo, AFCEC/CZN, Attn: KC-46A MOB 5 EIS, 3515 S General McMullen, Suite 155, San Antonio, TX 78226-2018 (phone 478-222-9225). EIS inquiries and requests for digital or print copies of scoping materials are available upon request at the email or mailing address provided. For printed material requests, the standard U.S. Postal Service shipping timeline will apply. Members of the public who want to receive future mailings informing them on the availability of the Draft and Final EIS are encouraged to submit a comment that includes their name and email or postal mailing address.

SUPPLEMENTARY INFORMATION: On January 24, 2022, the DAF announced that March ARB, California, has been identified as the preferred alternative for the KC-46A MOB 5 Beddown. Grissom ARB, Indiana, and Tinker AFB, Oklahoma, were identified as the reasonable alternatives. Along with the No Action Alternative, all three bases will be equally evaluated in the EIS. The MOB 5 mission includes the beddown of 12 KC-46A aircraft at one installation. The KC-46A aircraft would recapitalize the KC-135 tanker fleet and would continue supporting the mission of providing worldwide refueling, cargo, and aeromedical evacuation support. The purpose of the MOB 5 beddown is to provide a fully capable, combat-operational AFRC KC-46A air refueling squadron or squadrons to accomplish aerial refueling and related missions. The KC-46A MOB 5 beddown is needed to support the recapitalization of the DAF's aging refueling aircraft fleet. The DAF needs bases to accomplish the required training and to field a fully operational force. A DAF base for the MOB 5 mission is needed to achieve a high state of operational mission readiness.

Resource areas being analyzed for impacts in the EIS include air quality, biological resources, cultural resources, environmental justice and other sensitive receptors, hazardous materials and wastes, infrastructure, noise, land use, safety, socioeconomics and soils and water resources. Primary impacts from the KC-46A MOB 5 beddown are expected to the air quality and noise resource areas. Potential impacts under the Proposed Action at Grissom ARB, March ARB and Tinker AFB are anticipated to be less than significant or mitigatable to less than significant. Permits required for the action may include revisions to or new permits associated with air quality, land disturbance, and hazardous wastes. The DAF will consult with appropriate resource agencies and Native American tribes to determine the potential for significant impacts. Consultation will be incorporated into the preparation of the EIS and will include, but not be limited to, consultation under Section 7 of the Endangered Species Act and consultation under Section 106 of the National Historic Preservation Act.

Scoping and Agency Coordination: To effectively define the full range of issues to be evaluated in the EIS, the DAF will determine the scope of the analysis by soliciting comments from interested local, state, and federal elected officials and agencies, Tribes, as well as interested members of the public and others. Implementation of the KC-46A MOB 5 mission at Tinker AFB would potentially impact wetlands and/or floodplains and would therefore be subject to Executive Order (E.O.) 11990, “Protection of Wetlands,” and E.O. 11988, “Floodplain Management”. Regulatory agencies with special expertise in wetlands and floodplains, such as the U.S. Army Corps of Engineers will be contacted and asked to comment. Consistent with E.O. 11988 and E.O. 11990, this Notice of Intent initiates early public review of the Proposed Action and alternatives and invites public comments and identification of potential alternatives. Implementation of the KC-46A MOB 5 mission also has the potential to impact historic properties. Consultation with the appropriate State Historic Preservation Officers as well as Native American Tribes will occur as part of this process. Concurrent with the publication of this NOI, public scoping notices will be announced locally. The project website at www.kc-46a-mob5.com provides posters, a project brochure and downloadable comment forms to fill out and return by mail. Scoping meetings will be held in the local communities near the alternative bases. The scheduled dates, times, locations, and addresses for the scoping meetings will also be published in local media a minimum of 15 days prior to the scoping meetings.

Adriane Paris,
Air Force Federal Register Liaison Officer.

[FR Doc. 2022-24783 Filed 11-14-22; 8:45 am]

BILLING CODE 5001-10-P